DEPARTMENT OF TRANSPORTATION

Federal Highway Administration

Environmental Impact Statement; Cass and Crow Wing Counties, Minnesota

AGENCY: Federal Highway Administration (FHWA), DOT

ACTION: Notice of intent.

SUMMARY: The FHWA is issuing this notice to advise the public that an environmental impact statement (EIS) will be prepared for proposed highway improvements to Trunk Highway (TH) 371 from the intersection of TH 371 and Crow Wing County Road 18 in Nisswa to the intersection of TH 371 and Cass County Road 42 in Pine River, a distance of approximately 16.0 miles, in Cass and Crow Wing Counties, Minnesota.

FOR FURTHER INFORMATION CONTACT: Cheryl Martin, Federal Highway Administration, Galtier Plaza, 380 Jackson Street, Suite 500, St. Paul, Minnesota 55101, Telephone (651) 291-6120; or Tony Hughes, Project Manager, Minnesota Department of Transportation—District 3, 1991 Industrial Park Road, Baxter, Minnesota 56425, Telephone (218) 828-2465; (651) 296-9930 TTY.

SUPPLEMENTARY INFORMATION: The FHWA, in cooperation with the Minnesota Department of Transportation (Mn/DOT), will prepare an EIS on a proposal to reconstruct TH 371 from the intersection of TH 371 and Crow Wing County Road 18 in Nisswa to the intersection of TH 371 and Cass County Road 42 in Pine River, a distance of approximately 16.0 miles, in Crow Wing and Cass Counties, Minnesota. The proposed action is being considered to address future transportation demand, safety problems, lack of access control, and design deficiencies.

The EIS will evaluate the social, economic, transportation and environmental impacts of alternatives, including: (1) No-Build and (2) variations of “Build” alternatives involving reconstruction and capacity expansion of TH 371 along the existing highway corridor, including individual or combined bypass alignments around the Cities of Pequot Lakes, Jenkins and Pine River.

It is anticipated that the “Trunk Highway 371 Scoping Document/Draft Scoping Decision Document” will be published in the fall of 2002. A press release will be published to inform the public of the document's availability. Copies of the scoping document will be distributed to agencies, interested persons and libraries for review to aid in identifying issues and analyses to be contained in the EIS. A thirty-day comment period for review of the document will be provided to afford an opportunity for all interested persons, agencies and groups to comment on the proposed action. A public scoping meeting will also be held during the comment period. Public notice will be given for the time and place of the meeting. A Draft EIS will be prepared based on the outcome of the scoping process. The Draft EIS will be available for agency and public review and comment. In addition, a public hearing will be held following completion of the Draft EIS. Public Notice will be given for the time and place of the public hearing on the Draft EIS. Coordination has been initiated and will continue with the appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: October 23, 2002.
Stanley M. Graczyk,
Project Development Engineer, Federal Highway Administration, St. Paul, Minnesota.

[FR Doc. 02-27555 Filed 10-29-02; 8:45 am]

BILLING CODE 4910-22-M